DEPARTMENT OF COMMERCE

Foreign-Trade Zones Board

[S-90-2012]

Approval of Subzone Status; TST NA TRIM, LLC; Hidalgo, TX

On August 3, 2012, the Executive Secretary of the Foreign-Trade Zones (FTZ) Board docketed an application submitted by the McAllen Foreign Trade Zone, Inc., grantee of FTZ 12, requesting subzone status subject to the existing activation limit of FTZ 12, on behalf of TST NA TRIM, LLC, in Hidalgo, Texas.

The application was processed in accordance with the FTZ Act and Regulations, including notice in the Federal Register inviting public comment (77 FR 47816, 08/10/2012). The FTZ staff examiner reviewed the application and determined that it meets the criteria for approval. Pursuant to the authority delegated to the FTZ Board Executive Secretary (15 CFR 400.36(f)), the application for the requested subzone (Subzone 12A) is approved, subject to the FTZ Act and the Board's regulations, including Section 400.13 and further subject to FTZ 12's 873.5-acre activation limit.

Dated: September 27, 2012.
Andrew McGilvray,
Executive Secretary.

[FR Doc. 2012-24215 Filed 10-1-12; 8:45 am]

BILLING CODE P